NATIONAL CREDIT UNION ADMINISTRATION

12 CFR Parts 708a and 708b

RIN 3133-AD84; 3133-AD85

Conversions of Insured Credit Unions

AGENCY: National Credit Union Administration (NCUA).

ACTION: Final rule.

SUMMARY: NCUA is confirming as final a December 23, 2010, interim final rule on the definition of the phrase “Regional Director” in NCUA's rule on credit union to mutual savings bank conversions. For clarification purposes, this rule modifies the aforementioned definition.

DATES: This rule is effective March 14, 2011.

FOR FURTHER INFORMATION CONTACT: Jacqueline Lussier, Staff Attorney, Office of General Counsel, National Credit Union Administration, 1775 Duke Street, Alexandria, VA 22314-3428, or telephone (703) 518-6540.

SUPPLEMENTARY INFORMATION:

Background

In 2009, the NCUA Board created the NCUA Office of Consumer Protection (OCP) to become operational on January 1, 2010. NCUA is in the process of moving responsibility for the review and approval of certain types of credit union conversions from the Regional Directors to the Director of the OCP, including credit union conversions to mutual savings banks or mutual savings associations (MSBs) in 12 CFR part 708a and the conversion from National Credit Union Share Insurance Fund (NCUSIF) share insurance to nonfederal share insurance in 12 CFR part 708b. To accommodate this reassignment of staff functions, the NCUA Board issued an interim final rule in December 2010, adding the Director of the OCP to the definition of the phrase “Regional Director” in part 708a and adding a new definition of the phrase “Regional Director” to part 708b that mirrors the revised definition in part 708a. 75 FR 80678 (Dec. 23, 2010).

NCUA received one comment letter that supported inclusion of the Director of the OCP in the definition of “Regional Director” in parts 708a and 708b.

Final Rule

The interim final rule instructed the Office of Federal Register (OFR) to amend § 708a.1 (now § 708a.101) ¹ of part 708a by adding a definition of “Regional Director” to include the Director of the OCP. The interim final rule, however, should have instructed the OFR that § 708a.1 (now § 708a.101) be amended not by adding a new definition but rather by revising the existing definition of “Regional Director.” This final rule confirms the December 23, 2010, interim rule as final and instructs the OFR that the existing definition of “Regional Director” in § 708a.101 be revised to include the Director of the OCP.

¹ In December 2010, the NCUA Board issued a final rule that, in part, reorganized part 708a into subparts A through C and redesignated the existing section numbers in subpart A as §§ 708a.101 through 708a.113. 75 FR 81378 (Dec. 28, 2010). As reorganized, subpart A applies to conversions of federally-insured credit unions to MSBs and former § 708a.1 is now numbered § 708a.101. That final rule became effective on January 27, 2011.

Immediate Effective Date

NCUA is issuing this rulemaking as a final rule effective upon publication in the Federal Register. The Administrative Procedure Act (APA), 5 U.S.C. 553, requires that a final rule must have a delayed effective date of 30 days from the date of publication, except for good cause. In this regard, NCUA believes the 30-day delayed effective date is inapplicable because the amendments to parts 708a and 708b are not substantive but merely update the regulation to provide NCUA with additional administrative flexibility. As such, the final rule is not subject to the 30-day delayed effective date requirement.

Regulatory Procedures

Regulatory Flexibility Act

The Regulatory Flexibility Act requires NCUA to prepare an analysis to describe any significant economic impact any regulation may have on a substantial number of small credit unions (those under $10 million in assets). 5 U.S.C. 603(a). Only a few credit unions convert in a given year. Accordingly, the NCUA Board certifies that the final rule will not have a significant economic impact on a substantial number of small credit unions, and, therefore, a regulatory flexibility analysis is not required.

Paperwork Reduction Act

The Paperwork Reduction Act of 1995 (PRA) applies to rulemakings in which an agency by rule creates a new paperwork burden on regulated entities or modifies an existing burden. 44 U.S.C. 3507(d). For purposes of the PRA, a paperwork burden may take the form of a reporting, recordkeeping, or disclosure requirement, each referred to as an information collection. The revised definition does not impose any new paperwork burden.

Executive Order 13132

Executive Order 13132 encourages independent regulatory agencies to consider the impact of their actions on state and local interests. In adherence to fundamental federalism principles, NCUA, an independent regulatory agency as defined in 44 U.S.C. 3502(5), voluntarily complies with the executive order. The final rule will not have substantial direct effects on the states, on the connection between the national government and the states, or on the distribution of power and responsibilities among the various levels of government. NCUA has determined that this rule does not constitute a policy that has federalism implications for purposes of the executive order.

The Treasury and General Government Appropriations Act, 1999—Assessment of Federal Regulations and Policies on Families

NCUA has determined that the final rule will not affect family well-being within the meaning of section 654 of the Treasury and General Government Appropriations Act, 1999, Public Law 105-277, 112 Stat. 2681 (1998).

Small Business Regulatory Enforcement Fairness Act

The Small Business Regulatory Enforcement Fairness Act of 1996 (SBREFA), Public Law 104-121, provides generally for congressional review of agency rules. A reporting requirement is triggered in instances where NCUA issues a final rule as defined by section 551 of the Administrative Procedure Act, 5 U.S.C. 551. The Office of Information and Regulatory Affairs of the Office of Management and Budget has determined that this final rule is not a major rule for purposes of SBREFA.

List of Subjects

12 CFR Part 708a

Charter conversions, Credit unions.

12 CFR Part 708b

Credit unions, Mergers of credit unions, Reporting and recordkeeping requirements.

By the National Credit Union Administration Board on March 7, 2011.
Mary F. Rupp,
Secretary of the Board.

For the reasons stated in the preamble, the National Credit Union Administration confirms as final the interim rule, which amended 12 CFR parts 708a and 708b, and was published December 23, 2010, at 75 FR 80678, with the following changes:

PART 708a—BANK CONVERSIONS AND MERGERS

1. The authority citation for part 708a continues to read as follows:

Authority: 12 U.S.C. 1766, 1785(b), and 1785(c).

2. In § 708a.101, revise the definition of regional director to read as follows:

§ 708a.101 Definitions.

* * * * *

Regional director means either the director of the NCUA regional office for the region where a natural person credit union's main office is located or the director of the NCUA's Office of Consumer Protection. For corporate credit unions, regional director means the director of NCUA's Office of Corporate Credit Unions.

* * * * *

[FR Doc. 2011-5675 Filed 3-11-11; 8:45 am]

BILLING CODE 7535-01-P